NATIONAL SCIENCE FOUNDATION

Notice of Meeting; Seminar: Research to Develop an Artificial Retina

November 22, 2000.

Name: Seminar: “RESEARCH TO DEVELOP AN ARTIFICIAL RETINA”.

Date and Time: November 22, 2000; 8:30 am-12 noon.

Place: National Science Foundation, 4201 Wilson Boulevard, Room 110, Arlington, VA 22230.

Type of Meeting: Open.

Contact Person: Gilbert Devey, Program Director, biomedical Engineering and Research to Aid Persons with Disabilities, Division of Bioengineering and Environmental Systems, National Science Foundation, 4201 Wilson Boulevard, Arlington, VA 2223, Telephone: (703) 292-8320.

Purpose of Meeting: The broad purpose of the meeting is to brief NSF management and program officers on federal agency research project support, other worldwide R&D directed to the development of a chronic retinal prosthesis, and to indicate the context in which NSF provides support for the research.

Agenda

8:30 a.m.—Registration

9:00 a.m.—Welcome

9:15 a.m.—Presentation

10:15 a.m.—Break

10:30 a.m.—Discussion

11:30 a.m.—Open Discussion

11:45 a.m.—Wrap-Up

Dated: November 8, 2000.
Karen J. York,
Committee Management Officer.

[FR Doc. 00-29170 Filed 11-14-00; 8:45 am]

BILLING CODE 7555-01-M